OFFICE OF MANAGEMENT AND BUDGET

Delegation of Apportionment Authority

AGENCY: Office of Management and Budget, Executive Office of the President.

ACTION: Notice.

SUMMARY: Pursuant to The Executive Office of the President Appropriations Act, 2022, the Office of Management and Budget is publishing its delegation of apportionment authority to respond to a continuity event.

DATES: This delegation became effective on January 20, 2021.

FOR FURTHER INFORMATION CONTACT: Heather V. Walsh at 202-395-3642 or MBX.OMB.OGC@omb.eop.gov.

SUPPLEMENTARY INFORMATION:

Delegation of Apportionment Authority To Respond to a Continuity Event

I hereby delegate to the following individuals, in order of succession, the authorities delegated by the President to the Director of the Office of Management and Budget for apportioning funds pursuant to 31 U.S.C. 1513 when the Deputy Associate Director (DAD) (to whom such apportionment authority was previously delegated by the Director of the Office of Management and Budget) with current apportionment authority for an account is not available to apportion or reapportion the account because of a continuity event:

1. Branch Chief responsible for the account

2. Another Branch Chief from the same DAD area

3. Another DAD from the same Program Associate Director (PAD) area

4. Another DAD from a different PAD area

5. Assistant Director of BRD

6. PAD from the same DAD area

This delegation of authority will remain in place until revised or revoked, and it may not be re-delegated by the individual to whom it has been delegated. The delegation does not limit the authority of the Director to exercise the delegated authority.

Shalanda D. Young,
Director, Office of Management and Budget.

[FR Doc. 2023-05895 Filed 3-21-23; 8:45 am]

BILLING CODE 3110-01-P